DEPARTMENT OF THE INTERIOR

Fish and Wildlife Service

[FWS-R2-ES-2025-N037; FXES11130200000-256-FF02ENEH00]

Endangered Wildlife and Plants; Recovery Permit Applications

AGENCY: Fish and Wildlife Service, Interior.

ACTION: Notice of receipt of permit applications; request for comments.

SUMMARY: We, the U.S. Fish and Wildlife Service, invite the public to comment on the following applications for a permit to conduct scientific research to promote conservation or other activities intended to recover and enhance endangered species survival. With some exceptions, the Endangered Species Act (ESA) prohibits certain activities that may impact endangered species, unless a Federal permit allows such activity. The ESA also requires that we invite public comment before issuing these permits.

DATES: To ensure consideration, please submit your written comments by February 23, 2026.

ADDRESSES:

Document availability: Request documents from the contact in the FOR FURTHER INFORMATION CONTACT section.

Comment submission: Submit comments by email to fw2_te_permits@fws.gov. Please specify the permit application you are interested in by number (e.g., Permit Record No. PER1234567).

FOR FURTHER INFORMATION CONTACT: Katie Boyer, Acting Supervisor, Environmental Review Division, by phone at 737-932-1341, or via email at katie_boyer@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

With some exceptions, the Endangered Species Act of 1973, as amended (ESA; 16 U.S.C. 1531 et seq.), prohibits activities that constitute take of listed species unless a Federal permit is issued that allows such activity. The ESA's definition of “take” includes hunting, shooting, harming, wounding, or killing, and also such activities as pursuing, harassing, trapping, capturing, or collecting.

The ESA and our implementing regulations in the Code of Federal Regulations (CFR) at title 50, part 17, provide for issuing such permits and require that we invite public comment before issuing permits for activities involving listed species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Our release of documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the permit record number when submitting comments.

Table 1—Permit Applications
Permit record No. | Applicant | Species | Location | Activity | Type of take | Permit action
PER23398797 | U.S. Fish and Wildlife Service, Region 2/Ocelot Recovery; Alpine, Arizona | Ocelot (Leopardus pardalis) | Ohio, Texas | Captive propagation, bio-sample | Harass, harm | New.
PER23398796 | Bruhns, Wanda; Flagstaff, Arizona | Southwestern willow flycatcher (Empidonax traillii extimus) | Arizona, California, Colorado, New Mexico, Nevada, Texas, Utah | Presence/absence surveys, nest monitoring | Harass, harm | New.
PER23188967 | Norris, Thomas; Kyle, Texas | Golden-cheeked warbler (Setophaga chrysoparia) | Texas | Presence/absence surveys | Harass, harm | New.
PER23249867 | Choctaw Nation of Oklahoma; Durant, Oklahoma | Gray bat (Myotis grisescens), Indiana bat (Myotis sodalis), northern long-eared bat (Myotis septentrionalis) | Oklahoma | Presence/absence surveys, bio-sample | Harass, harm, capture | New.
PER22884850 | Jenkerson, Jeffrey; San Marcos, Texas | Texas hornshell (Popenaias popeii), Ouachita rock pocketbook (Arcidens wheeleri), Neosho mucket (Lampsilis rafinesqueana), scaleshell mussel (Leptodea leptodon), winged mapleleaf (Quadrula fragosa), dunes sagebrush lizard (Sceloporus arenicolus) | Arkansas, Missouri, New Mexico, Oklahoma, Texas | Presence/absence surveys, relocations, trap | Harass, harm, capture | Amend.
PER21892107 | Vidal, Amanda; Leander, Texas | Golden-cheeked warbler (Setophaga chrysoparia) | Texas | Presence/absence surveys | Harass, harm | New.
PER21921910 | Lewis, Chancey; Cameron, Texas | Houston toad (Bufo houstonensis) | Texas | Presence/absence surveys | Harass, harm | Renew.
PER21485967 | Allira, Meagan; Norman, Oklahoma | Gray bat (Myotis grisescens), Indiana bat (Myotis sodalis) | Oklahoma | Presence/absence surveys | Harass, harm, capture | New.
PER21344773 | Edwards, Christine; St. Louis, Missouri | Texas trailing phlox (Phlox nivalis ssp. Texensis) | Texas | Presence/absence surveys, collection | Harm, collect | Renew.
PER21344774 | Tetra Tech, Inc.—Tucson; Tucson, Arizona | Southwestern willow flycatcher (Empidonax traillii extimus) | Arizona | Presence/absence surveys | Harass, harm | Amend.
PER21266468 | Frey, Jennifer; Radium Springs, New Mexico | New Mexico meadow jumping mouse (Zapus hudsonius luteus), Penasco least chipmunk (Tamias minimus atristriatus) | Arizona, Colorado, New Mexico | Presence/absence surveys, trap, capture, handle, tag, bio-sample | Harass, harm, capture | New.
PER21344775 | Leonard, Wendy; Helotes, Texas | Golden-cheeked warbler (Setophaga chrysoparia) | Texas | Presence/absence surveys | Harass, harm | Renew.
PER21339358 | Brown and Gay Engineers, Inc.; Frisco, Texas | Golden-cheeked warbler (Setophaga chrysoparia), lesser prairie-chicken (Tympanuchus pallidicinctus), dunes sagebrush lizard (Sceloporus arenicolus), Houston toad (Bufo houstonensis) | Colorado, Kansas, New Mexico, Oklahoma, Texas | Presence/absence surveys, | Harass, harm | Renew.
PER21344776 | Dallas Zoo Management, Inc.; Dallas, Texas | Dunes sagebrush lizard (Sceloporus arenicolus), Houston toad (Bufo houstonensis), Barton Springs salamander (Eurycea sosorum), Texas blind salamander (Eurycea rathbuni) | Texas | Hold, handle, captive rearing, captive propagation, headstarting, captive breeding, educational display, reintroduction | Harass, harm, capture | Renew/amend.
PER21894441 | Hawks Aloft, Inc.; Albuquerque, New Mexico | Southwestern willow flycatcher (Empidonax traillii extimus) | New Mexico | Presence/absence surveys | Harass, harm | Renew.
PER20350238 | Morrison, Michael; Bishop, California | Golden-cheeked warbler (Setophaga chrysoparia) | Texas | Presence/absence surveys, band, trap, handle, nest search, camera monitoring, | Harass, harm, capture | Renew.
PER20678521 | Forstner, Michael; Seguin, Texas | Houston toad (Bufo houstonensis), Barton Springs salamander (Eurycea sosorum), Austin blind salamander (Eurycea waterlooensis), fountain darter (Etheostoma fonticola) | Texas | Presence/absence surveys, bio-sample, headstarting, reintroduction, translocation, capture, voucher specimen, captive propagation | Harass, harm, capture, kill | Renew/amend.
PER20350987 | Terrell, Danielle; Austin, Texas | Golden-cheeked warbler (Setophaga chrysoparia) | Texas | Presence/absence surveys | Harass, harm | Amend.
PER20285322 | Borstein, Samuel; San Marcos, Texas | Leon Springs pupfish (Cyprinodon bovinus), Comanche Springs pupfish (Cyprinodon elegans), fountain darter (Etheostoma fonticola), Big Bend gambusia (Gambusia gaigei), Clear Creek gambusia (Gambusia heterochir), Pecos gambusia (Gambusia nobilis), peppered chub (Macrhybopsis tetranema), smalleye shiner (Notropis buccula), sharpnose shiner (Notropis oxyrhynchus) | Texas | Capture, trap, euthanize, bio-sample, voucher specimen, DNA sequencing | Harass, harm, capture, kill | New.
PER22885812 | Henson, Jeremy; Round Rock, Texas | Pink mucket (Lampsilis abrupta), fat pocketbook (Potamilus capax) | Arkansas | Presence/absence surveys | Harass, harm, capture | Amend.
PER20370275 | Joint Base San Antonio; Camp Bullis, Texas | Golden-cheeked warbler (Setophaga chrysoparia) | Texas | Presence/absence surveys, handle, band | Harass, harm, capture | Renew.
PER20284844 | Buckingham, Matthew; Lufkin, Texas | Houston toad (Bufo houstonensis), Guadalupe fatmucket (Lampsilis bergmanni), Texas fatmucket (Lampsilis bracteate), Guadalupe orb (Cyclonaias necki), Texas pimpleback (Cyclonaias petrina), Balcones spike (Fusconaia iheringi), false spike (Fusconaia mitchelli), Texas hornshell (Popenaias popeii) | Texas | Presence/absence Surveys, salvage | Harass, harm | New.
PER21344777 | Sonoran Institute; Tucson, Arizona | Gila topminnow (Poeciliopsis occidentalis) | Arizona | Presence/absence surveys, voucher specimen | Harass, harm, capture, kill | Renew.
| Texas State University; San Marcos, Texas | Barton Springs salamander (Eurycea sosorum), Austin blind salamander (Eurycea waterlooensis), Texas blind salamander (Eurycea rathbuni), fountain darter (Etheostoma fonticola), Comal Springs riffle beetle (Heterelmis comalensis), Comal Springs dryopid beetle (Stygoparnus comalensis), Peck's Cave amphipod (Stygobromus pecki), diamond tryonia (Pseudotryonia adamantina), Gonzales tryonia (Tryonia circumstriata), phantom tryonia (Tryonia cheatumi), phantom springsnail (Pyrgulopsis texana), Pecos amphipod (Gammarus pecos), Pecos assiminea snail (Assiminea pecos), diminutive amphipod (Gammarus hyalleloides), Coffin Cave mold beetle (Batrisodes texanus), ground beetle (Rhadine exilis), ground beetle (Rhadine infernalis), Helotes mold beetle (Batrisodes venyivi), Kretschmarr Cave mold beetle (Texamaurops reddelli), Tooth Cave ground beetle (Rhadine persephone), Cokendolpher cave harvestman (Texella cokendolpheri), Robber Baron Cave meshweaver (Cicurina baronia), Madla Cave meshweaver (Cicurina madla), Govermnment Canyon Bat Cave meshweaver (Cicurina vespera), Government Canyon Bat Cave spider (Tayshaneta microps), Tooth Cave spider (Tayshaneta myopica), Tooth Cave pseudoscorpion (Tartarocreagris texana), Bee Creek Cave harvestman (Texella reddelli), Bone Cave harvestman (Texella reyesi), | Texas | Presence/absence surveys, harry, herd, handle, trap, voucher specimen | Harass, harm, capture, kill | Renew.
PER20454959 | Kutz, Julie; Albuquerque, New Mexico | Southwestern willow flycatcher (Empidonax traillii extimus) | New Mexico | Presence/absence surveys | Harass, harm | New.
PER22242412 | USDA Forest Service—Carson National Forest; Taos, New Mexico | Southwestern willow flycatcher (Empidonax traillii extimus) | New Mexico | Presence/absence surveys | Harass, harm | Renew/amend.
PER20454960 | Bureau of Land Management, Taos Field Office; Taos, New Mexico | Black-footed ferret (Mustela nigripes), New Mexico meadow jumping mouse (Zapus hudsonius luteus), southwestern willow flycatcher (Empidonax traillii extimus) | New Mexico | Presence/absence surveys, trap, nest monitoring | Harass, harm, capture | New.
PER20735572 | U.S. Bureau of Reclamation—Phoenix; Glendale, Arizona | Wildlife: Desert pupfish (Cyprinodon macularius), Gila chub (Gila intermedia), spikedace (Meda fulgida), woundfin (Plagopterus argentissimus), Gila topminnow (Poeciliopsis occidentalis), Colorado pikeminnow (Ptychocheilus lucius), Yuma Ridgway's rail (Rallus obsoletus yumanensis), loach minnow (Tiaroga cobitis), razorback sucker (Xyrauchen texanus), southwestern willow flycatcher (Empidonax traillii extimus); Plants: Pima pineapple cactus (Coryphantha scheeri var. robustispina) | Arizona, New Mexico | Presence/absence surveys, nest monitoring, hold, voucher specimen | Harass, harm, capture, kill | New.
PER21273610 | Texas State Aquarium; Corpus Christi, Texas | Ocelot (Leopardus pardalis) | Texas | Transport, rehabilitation | Harass, harm, capture | Amend.
PER23567771 | Nueces County Coastal Parks; Corpus Christi, Texas | Hawksbill sea turtle (Eretmochelys imbricata), Kemp's ridley sea turtle (Lepidochelys kempii), leatherback sea turtle (Dermochelys coriacea) | Texas | Hold, handle, tag, nest searching, egg collection, transport, captive incubation | Harass, harm, capture | Amend.
PER21593741 | ACI Environmental Consulting; Austin, Texas | Texas hornshell (Popenaias popeii), Texas fatmucket (Lampsilis bracteate) | New Mexico, Texas | Presence/absence surveys, relocations | Harass, harm | Amend.

Public Availability of Comments

All comments we receive become part of the public record associated with this action. Requests for copies of comments will be handled in accordance with the Freedom of Information Act, National Environmental Policy Act, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under section 10 of the Endangered Species Act (16 U.S.C. 1531 et seq.).

Leston Jacks,
Acting Regional Director, Southwest Region, U.S. Fish and Wildlife Service.

[FR Doc. 2026-01250 Filed 1-22-26; 8:45 am]

BILLING CODE 4333-15-P